DEPARTMENT OF VETERANS AFFAIRS

Enhanced-Use Lease of Department of Veterans Affairs Real Property for the Development of Housing Facilities in Chillicothe, Ohio

AGENCY: Department of Veterans Affairs.

ACTION: Amended Notice of Intent to Enter into an Amended Enhanced-Use Lease (EUL).

SUMMARY: The Secretary of the Department of Veterans Affairs (VA) intends to amend the scope and terms of an existing EUL that was entered into on December 30, 2011, for certain land for the purpose of rehabilitating three buildings and developing units of supportive housing for Veterans.

FOR FURTHER INFORMATION CONTACT: Edward L. Bradley III, Office of Asset Enterprise Management (044), Department of Veterans Affairs, 810 Vermont Avenue NW., Washington, DC 20420, (202) 461-7778.

SUPPLEMENTARY INFORMATION: The Secretary of the Department of Veterans Affairs (VA) intends to amend the scope and terms of an existing EUL that was entered into on December 30, 2011, for three parcels, a total of approximately 17.5 acres of land for the purpose of rehabilitating three buildings and developing 310 units of supportive housing for Veterans. Since that time market conditions have changed making the original scope infeasible. This notice provides details on the scope of the amended EUL. The EUL lessee will finance, design, develop, manage, maintain, and operate, in two phases, 100 units of housing for eligible homeless Veterans, or Veterans at risk of homelessness, and their families, on a priority placement basis, and provide supportive services that guide resident Veterans toward attaining long-term self-sufficiency. As required under Section 211(b)(2)(B) of Public Law 112-154, because the EUL was entered into prior to January 1, 2012, this amended EUL will adhere to the prior version of VA's EUL statute as in effect on August 5, 2011.

Dated: May 13, 2015.
Jeffrey M. Martin,
Office of Regulation Policy & Management, Office of the General Counsel, Department of Veterans Affairs.

[FR Doc. 2015-11898 Filed 5-15-15; 8:45 am]

BILLING CODE 8320-01-P